DEPARTMENT OF LABOR

Employment and Training Administration

[TA-W-40,733 and TA-W-40,733A]

Blauer Manufacturing Company, Inc., CAM Division, Chatom, AL and Oxford, MS; Amended Certification Regarding Eligibility To Apply for Worker Adjustment Assistance

In accordance with section 223 of the Trade Act of 1974 (19 U.S.C. 2273) the Department of Labor issued a Notice of Certification Regarding Eligibility to Apply for Worker Adjustment Assistance on April 23, 2002, applicable to workers of Blauer Manufacturing Company, Inc., Cam Division, located in Chatom, Alabama. The notice was published in the Federal Register on May 2, 2002 (67 FR 22113).

At the request of a petitioner, the Department reviewed the certification for workers of the subject firm. The company reports that a worker, Joe W. Perritt, worked at the Oxford, Mississippi plant of the subject firm, spending the vast majority of his time in support of the production of police outerwear and rainwear at the Chatom, Alabama plant. Mr. Perritt, is a resident of Tennessee, but was paid out of the Boston, Massachusetts, headquarters of Blauer Manufacturing.

The intent of the Department's certification is to include all workers of Blauer Manufacturing Company, Inc., who were affected by increased imports. Accordingly, the Department is amending the worker certification to include Joe Perritt, who was separated from the Oxford, Mississippi plant but in direct support of production at the Chatom, Alabama plant.

The amended notice applicable to TA-W-40,733 is hereby issued as follows:

All workers of CAM Division, Chatom, Alabama (TA-W-40,733), and Mr. Joe Perritt, Blauer Manufacturing Company, Inc., Oxford, Mississippi (TA-W-40,733A), who became totally or partially separated from employment on or after December 18, 2000, through April 23, 2004, are eligible to apply for adjustment assistance under Section 223 of the Trade Act of 1974.

Signed at Washington, DC, this 19th day of August, 2002.
Linda G. Poole,
Certifying Officer, Division of Trade Adjustment Assistance.

[FR Doc. 02-24110 Filed 9-20-02; 8:45 am]

BILLING CODE 4510-30-P